DEPARTMENT OF JUSTICE

Notice of Lodging of Consent Decree Under the Comprehensive Environmental Response, Compensation, and Liability Act

Notice is hereby given that on June 3, 2009, a proposed Consent Decree in United States v. General Electric Co., Civil Action No. 1:09-cv-00545, was lodged with the United States District Court for the District of New Mexico.

The Consent Decree resolves the United States' claims against General Electric Company (“GE”) at the South Valley Superfund Site located in Albuquerque, New Mexico. Those claims were brought under Section 107 of the Comprehensive Environmental Response, Compensation and Liability Act, 42 U.S.C. 107. The Site consists of several industrial facilities, including an aircraft manufacturing plant currently owned and/or operated by GE and formerly owned and/or operated by the United States Air Force (“USAF”), the United States Department of Energy (“DOE”), and others.

The Consent Decree requires that GE pay a lump sum of $257,670.00 to reimburse the United States for past response costs, a lump sum of $71,715 toward the United States' future response costs, and interest accrued on these two sums during the period from November 1, 2002 to the date of entry of the Consent Decree. The Consent Decree also memorializes the obligation of the USAF and DOE to pay a lump sum of $2,605,330.00 in reimbursement for past response costs and a lump sum of $725,126.00 toward future response costs.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. General Electric Co., D.J. Ref. 90-11-2-443A.

The Consent Decree may be examined at the Office of the United States Attorney, District of New Mexico, 201 3rd Street, NW., Albuquerque, New Mexico 87102, and at U.S. EPA Region 6, 1445 Ross Avenue, Dallas, Texas 75202. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $25.00 (25 cents per page reproduction cost) payable to the U.S. Treasury.

Maureen Katz,
Assistant Chief, Environmental Enforcement Section, Environment and Natural Resources Division.

[FR Doc. E9-14289 Filed 6-17-09; 8:45 am]

BILLING CODE 4410-15-P